DEPARTMENT OF COMMERCE

Foreign-Trade Zones Board

[Order No. 1155]

Approval for Expansion of Subzone 104A, Merck & Company, Inc., Plant (Pharmaceuticals), Dougherty County, GA

Pursuant to its authority under the Foreign-Trade Zones Act of June 18, 1934, as amended (19 U.S.C. 81a-81u), the Foreign-Trade Zones Board (the Board) adopts the following Order:

Whereas, the Savannah Airport Commission, grantee of FTZ 104, has requested authority on behalf of Merck & Company, Inc. (Merck), to add capacity and to expand the scope of authority under zone procedures within Subzone 104A at the Merck plant in Dougherty County, Georgia (FTZ Docket 62-2000, filed 11/17/2000);

Whereas, notice inviting public comment has been given in the Federal Register (65 FR 71296, 11/30/00);

Whereas, pursuant to Section 400.32(b)(1) of the FTZ Board regulations (15 CFR 400), the Secretary of Commerce's delegate on the FTZ Board has the authority to act for the Board in making decisions regarding manufacturing activity within existing zones when the proposed activity is the same, in terms of products involved, to activity recently approved by the Board and similar in circumstances (15 CFR 400.32(b)(1)(i)); and,

Whereas, the Board adopts the findings and recommendations of the examiner's report, and finds that the requirements of the FTZ Act and Board's regulations are satisfied, and that the proposal is in the public interest;

Now, therefore, the Board hereby orders:

The application to add capacity and to expand the scope of authority under zone procedures within Subzone 104A on behalf of Merck & Company, Inc., is approved, subject to the FTZ Act and the Board's regulations, including Section 400.28.

Signed at Washington, DC, this 5th day of April, 2001.
Timothy J. Hauser,
Acting Under Secretary for International Trade, Alternate Chairman, Foreign-Trade Zones Board.

[FR Doc. 01-9640 Filed 4-17-01; 8:45 am]

BILLING CODE 3510-DS-P